DEPARTMENT OF COMMERCE

Bureau of Industry and Security

Agency Information Collection Activities; Submission to the Office of Management and Budget (OMB) for Review and Approval; Comment Request; BIS Program Evaluation

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 20, 2025, during a 60-day comment period. This notice allows for an additional 30 days for public comments.

Agency: Bureau of Industry and Security, Department of Commerce.

Title: BIS Program Evaluation.

OMB Control Number: 0694-0125.

Form Number(s): BIS 0694-0125.

Type of Request: Regular submission, extension of a current information collection.

Number of Respondents: 3,030.

Average Hours per Response: 10 minutes.

Burden Hours: 505 hours.

Needs and Uses: The Bureau of Industry and Security (BIS) conducts seminars on various aspects of export controls under BIS' jurisdiction. Feedback from these seminars is vital to ensuring the quality and relevance of outreach programs. Participants' completion of a voluntary survey provides BIS with immediate feedback on various program elements allowing BIS to improve and adjust its course offerings to meet the needs of the exporting community. BIS typically conducts over 20 seminars each year, both virtually and in-person, at locations across the United States and overseas. The renewal of this generic information collection allows BIS to conduct the data collection and final assessments in a shorter timeframe, thus providing policy and program offices with needed results possibly before the next seminar.

Affected Public: Business or other for-profit organizations.

Frequency: On Occasion.

Respondent's Obligation: Voluntary.

Legal Authority: Government Performance and Results Act (GPRA).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0694-0125.

Sheleen Dumas,
Departmental PRA Compliance Officer, Office of the Under Secretary of Economic Affairs, Commerce Department.

[FR Doc. 2025-16512 Filed 8-27-25; 8:45 am]

BILLING CODE 3510-33-P